ENVIRONMENTAL PROTECTION AGENCY

[FRL-9270-5]

Clean Air Act Operating Permit Program; Petition for Objection to State Operating Permit for Anadarko Petroleum Corporation—Frederick Compressor Station

AGENCY: Environmental Protection Agency (EPA).

ACTION: Notice of final action.

SUMMARY: This document announces that the EPA Administrator has responded to a citizen petition asking EPA to object to an operating permit issued by the Colorado Department of Public Health and Environment (CDPHE). Specifically, the Administrator has denied the November 5, 2010 Petition, submitted by WildEarth Guardians (WEG), to object to the July 14, 2010 response of the CDPHE, Air Pollution Control Division to the October 8, 2009 Order by EPA objecting to the issuance of the renewed title V permit for Anadarko Petroleum Corporation's Frederick Compressor Station, Permit Number 95OPWE035 issued on January 1, 2007.

Pursuant to section 505(b)(2) of the Clean Air Act (Act), Petitioners may seek judicial review of those portions of the petitions, which EPA denied in the United States Court of Appeals for the appropriate circuit. Any petition for review shall be filed within 60 days from the date this notice appears in the Federal Register, pursuant to section 307 of the Act.

ADDRESSES: You may review copies of the final order, the petition, and other supporting information at the EPA Region 8 Office, 1595 Wynkoop Street, Denver, Colorado 80202-1129. EPA requests that if at all possible, you contact the individual listed in the FOR FURTHER INFORMATION CONTACT section to view the copies of the final order, the petition, and other supporting information. You may view the hard copies Monday through Friday, 8 a.m. to 4 p.m., excluding Federal holidays. If you wish to examine these documents, you should make an appointment at least 24 hours before visiting day. Additionally, the final order for Anadarko Petroleum Corporation, Frederick Compressor Station, is available electronically at: http://www.epa.gov/region07/air/title5/petitiondb/petitions/anadarko_response2010.pdf.

FOR FURTHER INFORMATION CONTACT: Donald Law, Office of Partnerships and Regulatory Assistance, EPA Region 8, 1595 Wynkoop Street, Denver, Colorado 80202-1129, (303) 312-7015, law.donald@epa.gov.

SUPPLEMENTARY INFORMATION: The Act affords EPA a 45-day period to review and object to, as appropriate, a title V operating permit proposed by State permitting authorities. Section 505(b)(2) of the Act authorizes any person to petition the EPA Administrator, within 60 days after the expiration of this review period, to object to a title V operating permit if EPA has not done so. Petitions must be based only on objections to the permit that were raised with reasonable specificity during the public comment period provided by the State, unless the petitioner demonstrates that it was impracticable to raise these issues during the comment period or the grounds for the issues arose after this period.

EPA received a petition on November 5, 2010 from WEG. In its petition, WEG requested that EPA object to the issuance of the renewed title V permit for Anadarko Petroleum Corporation's Frederick Compressor Station, issued by the CDPHE on January 1, 2007. Specifically, WEG objected to CDPHE's July 14, 2010 response to the Administrator's October 8, 2009 Order arguing it failed to appropriately assess whether oil and gas wells and other pollutant emitting activities should be aggregated together with the Frederick Compressor Station as a single stationary source for PSD and title V permitting purposes. In addition, WEG alleged that prior EPA statements demonstrate oil and gas sources can be aggregated. Finally, WEG alleged that the State inappropriately relied on section 112 of the Act.

On February 2, 2011, the Administrator issued an order denying the petition. The order explains the reasons behind EPA's conclusions.

Dated: February 16, 2011.
Carol Rushin,
Acting Regional Administrator, Region 8.

[FR Doc. 2011-4145 Filed 2-23-11; 8:45 am]

BILLING CODE 6560-50-P